DEPARTMENT OF DEFENSE

[Docket ID: DoD-2008-OS-0111]

Office of the Secretary; Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 14, 2008.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense Education Activity, ATTN: Dr. Sandra D. Embler, 4040 North Fairfax Drive, Arlington, VA 22203-1635, or call at (703) 588-3175.

Title and OMB Control Number: Department of Defense Education Activity (DoDEA) School Accreditation Parent and Student Surveys; OMB Control Number 0704-TBD.

Needs and Uses: The Department of Defense Education Activity (DoDEA) regulation 2010.1 (Accreditation Program) requires accreditation of all DoDEA schools in order to provide the activity, the military community served by the activity, and the public at large with an external review of the quality of the educational program provided to DoDEA students. DoDEA's accreditation process is based on the processes and standards of the North Central Association Commission on Accreditation and School Improvement (NCA CASI)/AdvancED. As part of the accreditation process, the interview team uses a worldwide standardized set of questions to gather data from students and parents to assess accreditation standards in the following areas: Vision and Purpose, Governance and Leadership, Teaching and Learning, Documenting and Using Results, Resources and Support Systems, Stakeholder Communications and Relationships, and Commitment to Continuous Improvement.

Affected Public: Individuals or households.

Annual Burden Hours: 24.

Number of Respondents: 32.

Responses per Respondent: 1.

Average Burden per Response: 45 minutes.

Frequency: Annually.

SUPPLEMENTARY INFORMATION:

Summary of Information Collection

NCA CASI/AdvancED is the largest accreditation organization in the United States, covering 30 states and 65 countries. As part of the accreditation process, NCA CASI/AdvancED conducts Quality Assurance Review (QAR) visits to DoDEA schools in February and April of each year on a rotating schedule that ensures that each school is evaluated within a 5-year cycle. The visits are two days in length in order to gather data, information, and evidence to accomplish the following:

• Evaluate adherence to the AdvancED standards;

• Provide high quality feedback in the form of commendations and recommendations; and

• Determine an accreditation status recommendation.

The Quality Assurance Review team's interview process includes students and parents/guardians. The purpose of the interview session is to help the Quality Assurance Review team gain a deeper understanding of the school improvement process at the school. The review team uses the information to review how well each school is progressing, provide commendations on areas in which each school is excelling, and recommendations that will help each school continuously improve. The review team also uses the information gathered to make an accreditation status recommendation at the end of the visit.

Dated: September 5, 2008.
Patricia L. Toppings,
OSD Federal Register Liaison Officer, Department of Defense.

[FR Doc. E8-21418 Filed 9-12-08; 8:45 am]

BILLING CODE 5001-06-P